DEPARTMENT OF ENERGY

Federal Energy Regulatory Commission

[Project No. 2509-051]

PE Hydro Generation, LLC; Notice of Intent To Prepare an Environmental Assessment

On January 3, 2022, the PE Hydro Generation, LLC filed a subsequent minor license application for the 862-kilowatt Shenandoah Hydroelectric Project No. 2509 (project). The project is located on the South Fork of the Shenandoah River near the Town of Shenandoah in Page and Rockingham, Counties, Virginia.

In accordance with the Commission's regulations, on October 18, 2024, Commission staff issued a notice that the project was ready for environmental analysis (REA Notice). Based on the information in the record, staff does not anticipate that licensing the project would constitute a major Federal action significantly affecting the quality of the human environment. Therefore, staff intends to prepare an Environmental Assessment (EA) on the application to license the project.¹

¹ In accordance with the Council on Environmental Quality's regulations, the unique identification number for documents relating to this environmental review is EAXX-019-20-000-1734604304. 40 CFR 1501.5(c)(4) (2024).

The EA will be issued and circulated for review by all interested parties. All comments filed on the EA will be analyzed by staff and considered in the Commission's final licensing decision.

The Commission's Office of Public Participation (OPP) supports meaningful public engagement and participation in Commission proceedings. OPP can help members of the public, including landowners, environmental justice communities, Tribal members, and others, access publicly available information and navigate Commission processes. For public inquiries and assistance with making filings such as interventions, comments, or requests for rehearing, the public is encouraged to contact OPP at (202) 502-6595 or OPP@ferc.gov.

The application will be processed according to the following schedule. Revisions to the schedule may be made as appropriate.

Milestone | Target date
Commission issues EA | December 31, 2025.

Any questions regarding this notice may be directed to Kristine Sillett at (202) 502-6575 or kristine.sillett@ferc.gov.

Dated: December 31, 2024.
Debbie-Anne A. Reese,
Secretary.

[FR Doc. 2025-00086 Filed 1-6-25; 8:45 am]

BILLING CODE 6717-01-P